DEPARTMENT OF HOUSING AND URBAN DEVELOPMENT

[Docket No. FR-5384-N-05]

Notice of Proposed Information Collection: Comment Request; Record of Employee Interview

AGENCY: Office of Labor Relations, Office of Departmental Operations and Coordination, HUD.

ACTION: Notice.

SUMMARY: The proposed information collection requirement described below will be submitted to the Office of Management and Budget (OMB) for review, as required by the Paperwork Reduction Act. The Department is soliciting public comments on the subject proposal.

DATES: Comments Due Date: August 2, 2010.

ADDRESSES: Interested persons are invited to submit comments regarding this proposal. Comments should refer to the proposal by name and/or OMB Control Number and should be sent to: Waite H. Madison, Director, Office of Labor Relations, Department of Housing and Urban Development, 451 7th Street, SW., Room 2102, Washington, DC 20410 or Waite.H.Madison@hud.gov.

FOR FURTHER INFORMATION CONTACT: Jade Banks, Senior Policy Advisor, Office of Labor Relations, Department of Housing and Urban Development, 451 7th Street, SW., Room 2102, Washington, DC 20410 or Jade.M.Banks@hud.gov, telephone (202) 402-5475 (this is not a toll-free number) for copies of the proposed forms and other available information.

SUPPLEMENTARY INFORMATION: The Department is submitting the proposed information collection to OMB for review, as required by the Paperwork Reduction Act of 1995 (44 U.S.C. Chapter 35, as amended).

This Notice is soliciting comments from members of the public and affected agencies concerning the proposed collection of information to: (1) Evaluate whether the proposed collection is necessary for the proper performance of the functions of the agency, including whether the information will have practical utility; (2) Evaluate the accuracy of the agency's estimate of the burden of the proposed collection of information; (3) Enhance the quality, utility, and clarity of the information to be collected; and (4) Minimize the burden of the collection of information on those who are to respond; including the use of appropriate automated collection techniques or other forms of information technology, e.g., permitting electronic submission of responses.

This Notice also lists the following information:

Title of Proposal: Record of Employee Interview.

OMB Control Number, if applicable: 2501-0009.

Description of the need for the information and proposed use: All Federal agencies administering programs subject to Davis-Bacon wage provisions are required to enforce Federal wage and reporting activities by Department of Labor (DOL) regulations (29 CFR Part 5, Section 5.6 paragraphs (a)(2) and (a)(3), respectively.

HUD, state and local agencies administering HUD-assisted programs must enforce Federal wage and reporting requirements on covered HUD-assisted construction and maintenance work. Enforcement activities include conducting interviews with laborers and mechanics employed on HUD-assisted projects concerning their employment on covered projects. The HUD-11 and HUD-11-SP (Spanish version) are used to assist in the conduct of the interviews and to record the information provided by the respondents. The forms may be supplemented with additional pages, as needed. Responses and the provision of supplemental informaton are voluntary on the part of respondents. The HUD-11 and HUD-11-SP are available on-line through HUD's Web site. Completed HUD-11 and/or HUD-11-SP forms must be retained by the HUD and local agencies to document the sufficiency of enforcement efforts.

Agency form numbers, if applicable: Forms HUD-11 and HUD-11-SP (Spanish version).

Estimation of the total numbers of hours needed to prepare the information collection including number of respondents, frequency of response, and hours of response

Item | Number of respondents | Amount of time required (hours) | Total time required (in hrs.)/annum
Interviews | 20,000 | .25 | 5,000
Recordkeeping | 20,000 | .16 | 3,200
Total Annual Burden |  |  | 8,200

Status of the proposed information collection: Extension of a currently approved collection.

Authority: The Paperwork Reduction Act of 1995, 44 U.S.C., Chapter 35, as amended.

Dated: May 27, 2010.
Waite H. Madison,
Director, Office of Labor Relations.

[FR Doc. 2010-13345 Filed 6-2-10; 8:45 am]

BILLING CODE 4210-67-P